DEPARTMENT OF COMMERCE

National Oceanic and Atmospheric Administration

RIN 0648-XA661

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet September 12-19, 2011. The Pacific Council meeting will begin on Wednesday, September 14, 2011 at 9:30 a.m., reconvening each day through Monday, September 19, 2011. All meetings are open to the public, except a closed session will be held at the end of the open session business day on Wednesday, September 14 to address litigation and personnel matters. The Pacific Council will meet as late as necessary each day to complete its scheduled business.

ADDRESSES: Meetings of the Pacific Council and its advisory entities will be held at the Marriott San Mateo, 1770 South Amphlett Boulevard, San Mateo, California 94402; telephone: 650-635-6000.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Council Member Appointments

3. Roll Call

4. Executive Director's Report

5. Approve Agenda

B. Enforcement Issues

1. Current Enforcement Issues

C. Marine Protected Areas

1. Monterey Bay National Marine Sanctuary Proposed Ecosystem Based Management Initiative

D. Habitat

1. Current Habitat Issues

E. Highly Migratory Species Management

1. National Marine Fisheries Service Report

2. Swordfish Management Workshop Report

F. Administrative Matters

1. Legislative Matters

2. Approval of Council Meeting Minutes

3. Fiscal Matters

4. Membership Appointments and Council Operating Procedures

5. Future Council Meeting Agenda and Workload Planning

G. Groundfish Management

1. National Marine Fisheries Service Report

2. Update and Joint NMFS/Pacific Council Hearing on the Proposed Secretarial Amendment for Groundfish Amendment 16-5 and 2012 Harvest Specifications and Management Measures

3. Review of Exempted Fishing Permits for 2012 Groundfish Fisheries

4. Stock Assessments for 2013-14 Groundfish Fisheries

5. Biennial Management Process for 2013-14 Groundfish Fisheries—Part 1

6. Trawl Rationalization Trailing Actions

7. Consider Inseason Adjustments—Part I

8. Emerging Issues Under Trawl Rationalization and Intersector Allocation

9. Biennial Management Process for 2013-14 Groundfish Fisheries—Part 2

10. Science Improvements for the Next Groundfish Management Cycle

11. Consideration of Inseason Adjustments—Part 2, if Needed

H. Salmon Management

1. Progress Reports on Columbia River Tule and Sacramento Winter Run Chinook Management Issues

2. 2011 Methodology Review

I. Pacific Halibut Management

1. 2012 Pacific Halibut Regulations

2. Pacific Halibut Bycatch Estimate for the 2012 Groundfish Fisheries

Schedule of Ancillary Meetings

Day 1—Monday, September 12, 2011 Scientific and Statistical Committee Economic Subcommittee—8 a.m.

Day 2—Tuesday, September 13, 2011

Groundfish Advisory Subpanel— 8 a.m.

Groundfish Management Team— 8 a.m.

Highly Migratory Species Advisory Subpanel— 8 a.m.

Highly Migratory Species Management Team— 8 a.m.

Scientific and Statistical Committee— 8 a.m.

Habitat Committee—8:30 a.m.

Legislative Committee—2 p.m.

Budget Committee—3:30 p.m.

Enforcement Consultants—4:30 p.m.

Day 3—Wednesday, September 14, 2011

California State Delegation—7 a.m.

Oregon State Delegation—7 a.m.

Washington State Delegation—7 a.m.

Groundfish Advisory Subpanel— 8 a.m.

Groundfish Management Team— 8 a.m.

Highly Migratory Species Advisory Subpanel—8 a.m.

Highly Migratory Species Management Team—8 a.m.

Salmon Technical Team—8 a.m.

Scientific and Statistical Committee—8 a.m.

Enforcement Consultants—As Needed

Stock Assessment Briefing—7:30 p.m.

Day 4—Thursday, September 15, 2011

California State Delegation—7 a.m.

Oregon State Delegation—7 a.m.

Washington State Delegation—7 a.m.

Groundfish Advisory Subpanel— 8 a.m.

Groundfish Management Team— 8 a.m.

Salmon Technical Team—8 a.m.

Scientific and Statistical Committee—8 a.m.

Enforcement Consultants—As Needed

Chair's Reception—6 p.m.

Day 5—Friday, September 16, 2011

California State Delegation—7 a.m.

Oregon State Delegation—7 a.m.

Washington State Delegation—7 a.m.

Groundfish Advisory Subpanel— 8 a.m.

Groundfish Management Team— 8 a.m.

Salmon Advisory Subpanel—8 a.m.

Salmon Technical Team—8 a.m.

Enforcement Consultants—As Needed

Day 6—Saturday, September 17, 2011

California State Delegation—7 a.m.

Oregon State Delegation—7 a.m.

Washington State Delegation—7 a.m.

Groundfish Advisory Subpanel— 8 a.m.

Groundfish Management Team— 8 a.m.

Enforcement Consultants—As Needed

Day 7—Sunday, September 18, 2011

California State Delegation—7 a.m.

Oregon State Delegation—7 a.m.

Washington State Delegation—7 a.m.

Groundfish Advisory Subpanel— 8 a.m.

Groundfish Management Team— 8 a.m.

Enforcement Consultants—As Needed

Day 8—Monday, September 19, 2011

California State Delegation—7 a.m.

Oregon State Delegation—7 a.m.

Washington State Delegation—7 a.m.

Enforcement Consultants—As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: August 22, 2011.
Tracey L. Thompson,
Acting Director, Office of Sustainable Fisheries, National Marine Fisheries Service.

[FR Doc. 2011-21844 Filed 8-25-11; 8:45 am]

BILLING CODE 3510-22-P